FEDERAL COMMUNICATIONS COMMISSION

47 CFR Part 90

[WT Docket No. 02-55]

Improving Public Safety Communications in the 800 MHZ Band

AGENCY: Federal Communications Commission.

ACTION: Final rule.

SUMMARY: In this document, the Federal Communications Commission (Commission) streamlines our rules and procedures to accelerate the successful conclusion of the Commission's 800 MHz band reconfiguration program, or rebanding. The 800 MHz rebanding initiative is a 14-year, $3.6 billion program, involving Sprint Corporation (Sprint) and 800 MHz licensees. At the conclusion of this initiative, public safety, critical infrastructure and other 800 MHz licensees will operate in a reconfigured 800 MHz band free of the interference that plagued first responders' mission-critical communications before the Commission instituted rebanding in the 800 MHz Report and Order.

DATES: Effective December 16, 2019.

FOR FURTHER INFORMATION CONTACT: Roberto Mussenden, Policy and Licensing Division, Public Safety and Homeland Security Bureau, (202) 418-1428.

SUPPLEMENTARY INFORMATION: This is a summary of the Commission's Notice of Proposed Rulemaking in WT Docket No. 02-55, FCC 19-108, released on October 28, 2019. The document is available for download at http://fjallfoss.fcc.gov/edocs_public/. The complete text of this document is also available for inspection and copying during normal business hours in the FCC Reference Information Center, Portals II, 445 12th Street, SW, Room CY-A257, Washington, DC 20554. To request materials in accessible formats for people with disabilities (Braille, large print, electronic files, audio format), send an email to FCC504@fcc.gov or call the Consumer & Governmental Affairs Bureau at 202-418-0530 (voice), 202-418-0432 (TTY).

1. In the Order, the Commission directs the 800 MHz Transition Administrator to streamline its closing process going forward to provide that, when Sprint and an individual licensee have completed physical reconfiguration and there are no unresolved disputes between them, closing of the band reconfiguration process for that licensee will be deemed final upon Sprint's delivery of the executed completion certification to the Transition Administrator and the Transition Administrator acknowledging receipt by letter to the licensee. Upon completion of these steps, the licensee will have no further rebanding obligations to Sprint, the Transition Administrator, or the Commission, and will no longer have recourse to Transition Administrator mediation or the Commission's processes for rebanding-related matters.

2. To promote facilitation of the dispute resolution process established in the 800 MHz Report and Order, we direct licensees to provide notice of any unresolved dispute to the Transition Administrator and Sprint within 20 business days of the effective date of this Order. Thereafter, the licensee and Sprint must enter mediation as directed by the Transition Administrator, pursuant to the Commissions' rules. We direct the Transition Administrator to hold mediation sessions each weekday, except for federal holidays. If agreement is not reached after 10 mediation sessions, the designated mediator, within 5 business days, will forward the mediation record to the Bureau for decision. On notification to the parties by the Transition Administrator that the record has been submitted, the parties have 5 business days to submit statements of position. No responsive pleadings will be accepted. If a licensee does not participate in mediation, does not submit a timely statement of position to the Bureau, or does not file a timely petition for reconsideration, application for review, or petition for a de novo hearing following a Bureau order adjudicating the dispute, the licensee will be deemed by the Bureau to have completed rebanding, and all of its rights under the Commission's 800 MHz rebanding orders, including, without limitation, the right to the Transition Administrator's dispute resolution process and reimbursement of costs, will be terminated.

3. Licensees that have completed physical reconfiguration as of the effective date of this Order, have no unresolved dispute with Sprint, but have not provided a completion certification to Sprint must submit an executed completion certification to Sprint within 20 business days of the effective date of this Order. Upon verification from Sprint that, despite the completion of physical reconfiguration and the absence of any disputes related to costs and expenditures, a licensee has not timely provided a completion certification as required, the Bureau will deem the licensee to have completed rebanding and all of its rights under the Commission's 800 MHz rebanding orders, including, without limitation, the right to the Transition Administrator's dispute resolution process and reimbursement of costs, will be terminated.

4. Finally, consistent with the streamlining steps taken above, we adopt an expedited closing process applicable to those licensees that have not completed physical reconfiguration as of the effective date of the instant Order. Upon completion of physical reconfiguration, such licensees will have 45 calendar days to either, (1) complete cost reconciliation and submit an executed completion certification to Sprint, or (2) notify the Transition Administrator of any unresolved dispute with Sprint regarding their reconfiguration. Licensees will then be subject to the expedited closing or dispute resolution procedures described above, as applicable.

5. We direct the Transition Administrator to revise its processes and documentation in accordance with the foregoing and we modify our procedures accordingly. Notice and comment are not necessary here because the changes that streamline the filings required of the parties to rebanding agreements and the process by which we direct the Transition Administrator to review those filings are “rules of agency organization, procedure, or practice.”

Procedural Matters

A. Paperwork Reduction Act of 1995 Analysis

6. The Order document does not contains new or modified information collection requirements subject to the Paperwork Reduction Act of 1995 (PRA), Public Law 104-13.

B. Report to Congress

7. The Commission will not send a copy of this Report and Order to Congress and the Government Accountability Office pursuant to the Congressional Review Act, see 5 U.S.C. 801(a)(1)(A), because the Commission did not adopt any rules of particular applicability.

Ordering Clause

8. Accordingly, It is ordered that, pursuant to sections 4(i), 4(j), 301, 303, and 403 of the Communications Act of 1934, as amended, 47 U.S.C. 154(i), 154(j), 301, 303, and 403, the Order is hereby adopted.

Federal Communications Commission.
Marlene Dortch,
Secretary.

[FR Doc. 2019-24657 Filed 11-13-19; 8:45 am]

BILLING CODE 6712-01-P